ELECTION ASSISTANCE COMMISSION

Cancellation Notice of a Sunshine Act Meeting

AGENCY: United States Election Assistance Commission (EAC).

ACTION: Notice to Cancel EAC Standards Board Virtual Public Meeting.

SUMMARY: The U.S. Election Assistance Commission has cancelled the EAC Standards Board Virtual Public Meeting scheduled for Monday, June 18, 2007, 7 a.m. EDT through Wednesday, June 20, 5 p.m. EDT. The meeting was announced in a sunshine notice that was published in the Federal Register on Thursday, May 31, 2007. PERSON TO CONTACT FOR INFORMATION:

Bryan Whitener, Telephone: (202) 566-3100.

Gracia M. Hillman,
Commissioner, U.S. Election Assistance Commission.

[FR Doc. 07-2772 Filed 5-30-07; 3:31 pm]

BILLING CODE 6820-KF-M